NUCLEAR REGULATORY COMMISSION

[Docket Nos. 50-338, 339, 280, and 281]

Virginia Electric Power Company, North Anna, Units 1 and 2, and Surry, Units 1 and 2; Notice of Receipt of Application for Renewal of Facility Operating License Nos. NPF-4, NPF-7, DPR-32, AND DPR-37 for an Additional 20-Year Period

The Nuclear Regulatory Commission has received applications from Virginia Electric Power Company, dated May 29, 2001, filed pursuant to Section 104b of the Atomic Energy Act of 1954, as amended, and 10 CFR Part 54 for renewal of Operating License Nos. NPF-4, NPF-7, DPR-32, and DPR-37, which authorize the applicant to operate North Anna Nuclear Station, Units 1 and 2, and Surry Nuclear Station, Units 1 and 2, respectively. The North Anna nuclear facility is located 40 miles northwest of Richmond, VA, in Louisa County. The current operating licenses for North Anna, Units 1 and 2, expire on April 1, 2018, and August 21, 2020, respectively. The Surry nuclear facility is located 17 miles northwest of Newport News, VA, in Surry County. The operating licenses for Surry, Units 1 and 2, expire on May 25, 2012, and January 29, 2013, respectively. All four Virginia Electric Power Company nuclear units are three-loop pressurized-water reactors designed by Westinghouse. The acceptability of the tendered applications for docketing and other matters, including an opportunity to request a hearing will be the subject of a subsequent Federal Register notice.

A copy of the applications are available electronically for public inspection at the Commission's Public Document Room, located at One White Flint North, 11555 Rockville Pike (first floor), Rockville, Maryland, or from the Publicly Available Records (PARS) component of the NRC's Agencywide Documents Access and Management System (ADAMS). The ADAMS Public Electronic Reading Room is accessible from the NRC Web site at http://www.nrc.gov/NRC/ADAMS/index.html. In addition, the applications are available on the NRC web page at http://www.nrc.gov/NRC/REACTOR/LR/index.html. If you do not have access to ADAMS or if there are problems in accessing the documents located in ADAMS, contact the NRC Public Document Room (PDR) Reference staff at 1-800-397-4209, 301-415-4737 or by email to pdr@nrc.gov.

The staff has verified that a copy of the license renewal application for the North Anna nuclear station has been provided to the Alderman Library at the University of Virginia, and that a copy of the license renewal application for the Surry nuclear station has been provided to the Swem Library at the College of William and Mary.

Dated at Rockville, Maryland, the 22nd day of June 2001.
For the Nuclear Regulatory Commission.
Christopher I. Grimes,
Chief, License Renewal and Standardization Branch, Division of Regulatory Improvement Programs, Office of Nuclear Reactor Regulation.

[FR Doc. 01-16265 Filed 6-27-01; 8:45 am]

BILLING CODE 7590-01-P